DEPARTMENT OF TRANSPORTATION

Pipeline and Hazardous Materials Safety Administration

49 CFR Part 192

[Docket No. PHMSA-2011-0009; Amdt. No 192-121]

RIN 2137-AE71

Pipeline Safety: Expanding the Use of Excess Flow Valves in Gas Distribution Systems to Applications Other Than Single-Family Residences

Correction

In rule document 2016-24817, appearing on pages 70987 through 71002 in the issue of Friday, October 14, 2016, make the following correction:

§ 192.383 Excess flow valve installation.

On page 71001, in the third column, in paragraph § 192.383 (b), on the fourth line, “April 17, 2016” should read “April 14, 2017”.

[FR Doc. C1-2016-24817 Filed 10-20-16; 8:45 am]

BILLING CODE 1301-00-D